DEPARTMENT OF COMMERCE

National Oceanic and Atmospheric Administration

[I.D. 082202D]

Proposed Information Collection; Comment Request; NOAA Community-based Restoration Program Progress Reports

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before October 28, 2002.

ADDRESSES: Direct all written comments to Madeleine Clayton, Departmental Paperwork Clearance Officer, Department of Commerce, Room 6086, 14th and Constitution Avenue NW., Washington DC 20230 (or via Internet at MClayton@doc.gov).

FOR FURTHER INFORMATION CONTACT: Requests for additional information or copies of the information collection instrument and instructions should be directed to Robin Bruckner, NOAA Restoration Center, National Marine Fisheries Service, 1315 East West Highway (F/HC3), Silver Spring, MD 20910-3282 (301-713-0174 or by e-mail at Robin.Bruckner@noaa.gov).

SUPPLEMENTARY INFORMATION:

I. Abstract

The NOAA Community-based Restoration Program (CRP) provides financial assistance on a competitive basis to implement grass-roots, community-based habitat restoration activities through individual projects or restoration partnerships. The NOAA Restoration Center (RC), within the NOAA Fisheries Office of Habitat Conservation, intends to institute specific reporting requirements for habitat restoration projects funded through the CRP. Recipients of NOAA CRP funds will be required to submit specific information on habitat restoration projects such as site details (project location information, including geographic coordinates), restoration techniques used, species benefitted, volunteer involvement, and other variables. This information collection is necessary to track the rapidly increasing number of habitat restoration projects being implemented around the country with CRP funds. This information will be used to populate a database of NOAA-funded habitat restoration projects, respond to Department of Commerce, NOAA, Congressional and Constituent inquiries, and ensure accountability for federal funds expended under the CRP. Successful applicants are required by the NOAA Grants Management Division to submit periodic performance reports and a final report for each award; this collection will stipulate the information to be provided in these reports.

II. Method of Collection

Progress reports will be submitted in two parts consisting of a reporting form for project details, and in narrative style according to a format provided by the RC. The form and format outline will be sent to recipients in hard copy as part of their award package and will also be available on the Restoration Center’s home page. Electronic submission of forms and progress report narratives will be encouraged but not required.

III. Data

OMB Number: None.

Form Number: None.

Type of Review: Regular submission.

Affected Public: Not-for profit institutions; State, Local and Tribal Governments; and business or other for-profits organizations (limited to those organizations that have received NOAA CRP funds for habitat restoration).

Estimated Number of Respondents: 75.

Estimated Time Per Response: Five hours (average) per report. Two semiannual reports and one final report are required for each grant covering an 18-month award period, however information collected and submitted for a single report need not be collected again for subsequent reports. Preparation time for producing one comprehensive report (Progress Report Narrative and completed Project Data Form) encompassing 18 months of work is 15 hours total.

Estimated Total Annual Burden Hours: 750.

Estimated Total Annual Cost to Public: $2,205.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 21, 2002.
Gwellnar Banks,
Management Analyst, Office of the Chief Information Officer.

[FR Doc. 02-21811 Filed 8-27-02; 8:45 am]

BILLING CODE 3510-22-S